DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 69296, October 20, 1980, as amended most recently at 69 FR 15344-15345, dated March 25, 2004) is amended to revise the mission statement of the Division of Cancer Prevention and Control, National Center for Chronic Disease Prevention and Health Promotion.

Section C-B, Organization and Functions, is hereby amended as follows: Add the following items to the mission statement for the Office of the Director (CL81):

(8) Develops health communication campaigns at the national and State levels; (9) guides the production and distribution of print, broadcast, and electronic materials, for use in programs at the national and State levels; (10) provides leadership, consultation and technical assistance on health communication issues for cancer prevention and control.

Delete in its entirety the title and function statement for the Epidemiology and Health Services Research Branch (CL82) and insert the following:

Epidemiology and Applied Research Branch (CL82). (1) Designs, implements, and analyzes research in epidemiology, health services, applied economics, behavioral science and communications that contribute to scientific knowledge related to cancer prevention and control; (2) monitors trends in the use of preventive services and behaviors which affect the risk of cancer incidence or mortality; (3) conducts both qualitative and quantitative research to identify the determinants of cancer prevention and screening behaviors; (4) studies the use and effectiveness of health care resources allocated to the primary and secondary prevention of cancer; (5) assesses the quality and appropriateness of screening, follow-up, and treatment for cancer discovered through early detection; (6) evaluates the effectiveness of programs sponsored by the Division of Cancer Prevention and Control; (7) provides scientific and medical expertise to the Division; (8) provides technical assistance in research design and evaluation of cancer control programs to other organizational units in the Division, State health departments, and national and international non-profit and for profit organizations; (9) establishes collaborative partnerships with public and private organizations of national and international stature.

Delete in its entirety the title and functional statement for the Communications and Behavioral Science Branch (CL85).

Dated: March 8, 2004.
William H. Gimson,
Chief Operating Officer, Centers for Disease Control and Prevention.

[FR Doc. 04-7347 Filed 3-31-04; 8:45 am]

BILLING CODE 4160-18-M